DEPARTMENT OF LABOR

Occupational Safety and Health Administration

29 CFR Part 1910

[Docket No. OSHA-2019-0001]

RIN 1218-AC93

Hazard Communication Standard

AGENCY: Occupational Safety and Health Administration (OSHA), Labor.

ACTION: Proposed rule: Extension of period to submit a notice of intent to appear (NOITA) at informal hearing.

SUMMARY: The period for submitting a NOITA is being extended by 14 days from the date of publication of this document to allow stakeholders interested in attending the informal public hearing on the proposed rule “Hazard Communication Standard” additional time to prepare their submissions.

DATES: NOITAs must be submitted July 22, 2021 in Docket Number OSHA-2019-0001.

Informal public hearing: OSHA has scheduled an informal public hearing on the proposed rule to be held virtually via WebEx, beginning September 21, 2021, at 10:00 a.m., ET. If necessary, the hearing will continue from 9:30 a.m. until 5:00 p.m., ET, on subsequent days. Additional information on how to access the informal hearing will be posted when available at https://www.osha.gov/hazcom/rulemaking.

ADDRESSES:

Notices of Intent to Appear: Notices of intent to appear at the hearing, along with any submissions and attachments, should be submitted electronically at https://www.regulations.gov, which is the Federal e-Rulemaking Portal. Follow the instructions online for making electronic submissions. After accessing “all documents and comments” in the docket (Docket No. OSHA-2019-0001), check the “proposed rule” box in the column headed “Document Type,” find the document posted on the date of publication of this document, and click the “Comment Now” link. When uploading multiple attachments to www.regulations.gov, please number all of your attachments because www.regulations.gov will not automatically number the attachments. This will be very useful in identifying all attachments in the preamble. For example, Attachment 1—title of your document, Attachment 2—title of your document, Attachment 3—title of your document. For assistance with commenting and uploading documents, please see the Frequently Asked Questions on regulations.gov.

Instructions: All submissions must include the agency's name and the docket number for this rulemaking (Docket No. OSHA-2019-0001). All comments, including any personal information you provide, are placed in the public docket without change and may be made available online at https://www.regulations.gov. Therefore, OSHA cautions commenters about submitting information they do not want made available to the public, or submitting materials that contain personal information (either about themselves or others), such as Social Security numbers and birthdates.

Docket: To read or download comments, notices of intent to appear, and other materials submitted in the docket, go to Docket No. OSHA-2019-0001 at https://www.regulations.gov. All comments and submissions are listed in the https://www.regulations.gov index; however, some information (e.g., copyrighted material) is not publicly available to read or download through that website. All comments and submissions, including copyrighted material, are available for inspection through the OSHA Docket Office.¹ Contact the OSHA Docket Office at (202) 693-2350, (TTY (877) 889-5627) for information about materials not available through the website, and for assistance in using the internet to locate docket submissions.

¹ Documents submitted to the docket by OSHA or stakeholders are assigned document identification numbers (Document ID) for easy identification and retrieval. The full Document ID is the docket number plus a unique four-digit code. OSHA is identifying supporting information in this document by author name, publication year, and the last four digits of the Document ID.

FOR FURTHER INFORMATION CONTACT:

For press inquiries: Contact Frank Meilinger, Director, Office of Communications, Occupational Safety and Health Administration, U.S. Department of Labor; telephone (202) 693-1999; email: meilinger.francis2@dol.gov.

For general information and technical inquiries: Contact Maureen Ruskin, Deputy Director, Directorate of Standards and Guidance, Occupational Safety and Health Administration, U.S. Department of Labor; telephone (202) 693-1873; email: ruskin.maureen@dol.gov.

For hearing inquiries: Contact Janet Carter, Directorate of Standards and Guidance, Occupational Safety and Health Administration, U.S. Department of Labor; telephone (202) 693-2370; email: carter.janet@dol.gov.

SUPPLEMENTARY INFORMATION: On February 16, 2021, OSHA published a Notice of Proposed Rulemaking (NPRM) to modify the Hazard Communication Standard (HCS) to align with the United Nations' Globally Harmonized System of Classification and Labelling of Chemicals (GHS) Revision 7, to address specific issues that have arisen since OSHA last updated the HCS in 2012, and to provide better alignment with other U.S. agencies and international trading partners, without lowering the overall protections of the standard. The public comment period for this NPRM closed May 19, 2021, 92 days after publication of the NPRM.

On May 20, 2021, OSHA issued a notice of informal hearing on the proposed rule. The deadline to submit a NOITA was June 18, 2021. However, OSHA has received a request to extend the period due, in part, to pandemic-related activities. OSHA agrees to an extension and believes a 14-day extension is sufficient and appropriate. Therefore, the deadline for submitting a NOITA is extended to July 22, 2021.

Notice of Intent To Appear at the Hearing

Interested persons who intend to participate in and provide oral testimony or documentary evidence at the hearing must file a written notice of intent to appear prior to the hearing. To testify or question witnesses at the hearing, interested persons must electronically submit their notice by July 22, 2021. The notice must provide the following information:

○ Name, address, email address, and telephone number of each individual who will give oral testimony;

○ Name of the establishment or organization each individual represents, if any;

○ Occupational title and position of each individual testifying;

○ Approximate amount of time required for each individual's testimony;

○ A brief statement of the position each individual will take with respect to the issues raised by the proposed rule; and

○ A brief summary of documentary evidence each individual intends to present.

○ Individuals who request more than 10 minutes to present their oral testimony at the hearing or who will submit documentary evidence at the hearing must submit the full text of their testimony and all documentary evidence no later than August 21, 2021.

The agency will review each submission and determine if the information it contains warrants the amount of time the individual requested for the presentation. If OSHA believes the requested time is excessive, the agency will allocate an appropriate amount of time for the presentation. The agency also may limit to 10 minutes the presentation of any participant who fails to comply substantially with these procedural requirements, and may request that the participant return for questioning at a later time. Before the hearing, OSHA will notify participants of the time the agency will allow for their presentation and, if less than requested, the reasons for its decision. In addition, before the hearing, OSHA will provide the hearing procedures and hearing schedule to each participant who filed a notice of intention to appear. OSHA emphasizes that the hearing is open to the public; however, only individuals who file a notice of intention to appear may question witnesses and participate fully at the hearing. If time permits, and at the discretion of the ALJ, an individual who did not file a notice of intention to appear may be allowed to testify at the hearing, but for no more than 10 minutes.

Authority and Signature

This document was prepared under the direction of James S. Frederick, Acting Assistant Secretary of Labor for Occupational Safety and Health, U.S. Department of Labor, 200 Constitution Avenue NW, Washington, DC 20210. It is issued under the authority of sections 4, 6, and 8 of the Occupational Safety and Health Act of 1970 (29 U.S.C. 653, 655, 657); 5 U.S.C. 553; section 304, Clean Air Act Amendments of 1990 (Pub. L. 101-549, reprinted at 29 U.S.C.A. 655 Note); section 41, Longshore and Harbor Workers' Compensation Act (33 U.S.C. 941); section 107, Contract Work Hours and Safety Standards Act (40 U.S.C. 3704); section 1031, Housing and Community Development Act of 1992 (42 U.S.C. 4853); section 126, Superfund Amendments and Reauthorization Act of 1986, as amended (reprinted at 29 U.S.C.A. 655 Note); Secretary of Labor's Order No. 8-2020 (85 FR 58383-94); and 29 CFR part 1911.

Signed at Washington, DC, on June 30, 2021.
James S. Frederick,
Acting Assistant Secretary of Labor for Occupational Safety and Health.

[FR Doc. 2021-14463 Filed 7-7-21; 8:45 am]

BILLING CODE 4510-26-P